DEPARTMENT OF TRANSPORTATION

Office of the Secretary

Privacy Act of 1974: System of Records

AGENCY: Office of the Secretary, DOT.

ACTION: Notice to establish a system of records.

SUMMARY: DOT intends to establish a system of records under the Privacy Act of 1974.

DATES: Effective Date: May 27, 2008. If no comments are received, the proposal will become effective on the above date. If comments are received, the comments will be considered and, where adopted, the documents will be republished with changes.

ADDRESSES: Send comments to: Habib Azarsina, Departmental Privacy Officer, S-80, United States Department of Transportation, Office of the Secretary of Transportation, 1200 New Jersey Ave, SE., Washington, DC 20590, or habib.azarsina@dot.gov

FOR FURTHER INFORMATION CONTACT: Habib Azarsina, Departmental Privacy Officer, S-80, United States Department of Transportation, Office of the Secretary of Transportation, 1200 New Jersey Ave, SE., Washington, DC 20590, telephone 202-366-1965 or habib.azarsina@dot.gov

SUPPLEMENTARY INFORMATION: The Department of Transportation system of records notice subject to the Privacy Act of 1974 (5 U.S.C. 552a), as amended, has been published in the Federal Register and is available from the above mentioned address.

SYSTEM NUMBER:

DOT/ALL 18.

SYSTEM NAME:

International Freight Data System (IFDS).

SECURITY CLASSIFICATION:

Unclassified, sensitive

SYSTEM LOCATION:

Server: The server hosting the records will be housed at Integrated Communication Systems Inc., which is located at 5260 West View Drive, Frederick, Maryland 21703. Portal Location: This system of records will be accessed via a portal located at the Research and Innovative Technology Administration of the U.S. Department of Transportation, Room #E36-120, 1200 New Jersey Avenue, SE., Washington, DC 20590.

CATEGORIES OF INDIVIDUALS COVERED BY THE SYSTEM OF RECORDS:

This system contains information on members of the public who:

• Engage in international commerce and hold licenses, registrations and/or other certifications that Federal statutes authorize the Department of Transportation to monitor and/or regulate,

• Own, ship or transport international shipments of hazardous materials—whether by import, export or in-transit,

• Import automobiles or automobile parts made outside of the U.S.,

• Serve as crew on international commercial maritime vessels, or

• Ship Government Impelled Cargoes on international maritime vessels. Government Impelled Cargoes are cargo for which a Federal agency contracts directly for shipping by water or for which a Federal agency provides financing, including financing by grant, loan or loan guarantee, resulting in shipment of the cargo by water.

CATEGORIES OF RECORDS IN THE SYSTEM:

In addition to transaction-level shipment and conveyance information on international freight flows into, from or transiting the U.S., the categories of records in IFDS include: Corporate and individual names and addresses (home addresses and telephone numbers are collected for those shippers and consignees who operate from home), their contact information (including telephone numbers, fax numbers and e-mail addresses) and titles; commercial drivers' license numbers and issuers; electronic signatures and signers' name, title, related information and date of signature; travel document numbers and issuing countries; nationalities of commercial parties such as conveyance owners and/or operators; and commercial operators' and/or crew members' dates of birth. Social security numbers are not collected in IFDS.

AUTHORITY FOR MAINTENANCE OF THE SYSTEM:

49 U.S.C. 112 (section 7301, P.L. 109-59); 19 U.S.C. 1411(d) (section 405, P.L. 109-347)

PURPOSES:

The U.S. Department of Transportation (DOT) has a variety of international missions that are carried out by its Operating Administrations (OAs) and have a direct impact on the movement of international freight. The International Freight Data System (IFDS) is an automated system that will provide participating DOT Operating Administrations (OAs) with international commercial information to perform their enforcement, statistical, analytical, modeling and policy responsibilities. The IFDS will interface with the U.S. Customs and Border Protection's (CBP) Automated Commercial Environment (ACE) program as well as the government-wide International Trade Data System. This will be a joint project of the following DOT OAs: Research and Innovative Technology Administration (RITA) (IFDS system manager): the National Highway Traffic Safety Administration (NHTSA); the Maritime Administration (MARAD); the Federal Aviation Administration (FAA); the Pipeline and Hazardous Materials Safety Administration (PHMSA); the Federal Motor Carrier Safety Administration (FMCSA); and the Federal Highway Administration (FHWA). Access to the IFDS will be limited to the statutory authority of each DOT OA to view and use the information. The IFDS is scheduled to deploy in 2008 and 2009.

ROUTINE USES OF RECORDS MAINTAINED IN THE SYSTEM, INCLUDING CATEGORIES OF USERS AND THE PURPOSES OF SUCH USES:

Records maintained in the IFDS will be used as follows:

(1) RITA: perform statistical, analytical, modeling and policy activities;

(2) FAA: provide support for oversight of international hazardous materials shipments by air as well as statistical, analytical, and policy activities;

(3) FHWA: perform statistical, analytical, modeling, and policy activities;

(4) FMCSA: provide enforcement support for commercial truck and bus safety and related requirements as well as statistical, analytical, modeling, and policy activities;

(5) MARAD: provide enforcement of crewing and Government-Impelled Cargoes requirements as well as statistical, analytical, and policy activities;

(6) NHTSA: provide enforcement of auto safety for non-U.S. vehicles and parts as well as statistical, analytical, and policy activities; and

(7) PHMSA: provide enforcement support for international hazardous materials shipments oversight as well as statistical, analytical and policy activities.

(8) See Prefatory Statement of General Routine Uses.

DISCLOSURE TO CONSUMER REPORTING AGENCIES:

None.

POLICIES AND PRACTICES FOR STORING, RETRIEVING, ACCESSING, RETAINING AND DISPOSING OF RECORDS IN THE SYSTEM:

STORAGE:

Records will be stored in the International Freight Data System Database located at the System Manager site as well as at each participating DOT OA site. Any IFDS paper records will be stored at the Research and Innovative Technology Administration, Room E36-120, U.S. DOT Headquarters Building. There is one database (IFDS), which contains international freight data for use by DOT and maintained by RITA. The IFDS obtains its data for the Department of Transportation via an interface with the Department of Homeland Security, U.S. Customs and Border Protection, International Trade Data System.

RETRIEVABILITY:

Records are retrievable by an individual's name and the categories listed in “Categories of records in the system.”

SAFEGUARDS:

Access to the system is limited to authorized users of IFDS and the system administrator managing user IDs and passwords. Physical access to the system and manual records is restricted through security guards and access badges required to enter the facility where IFDS equipment and records are located. The manual records storage location, Room E36-120, is locked when not in use.

RETENTION AND DISPOSAL:

Records maintained in the IFDS cover the most recent two to three year period depending upon the participating OA's particular needs and authorities. Historical data will be archived and maintained in a secure manner in accordance with federal regulations governing electronic data records retention and disposal in accordance with the National Archives and Records Administration's record retention schedule. Standard Form 115 will be used to gain authority for the disposition of the records.

SYSTEM MANAGER(S) AND ADDRESS:

FDS Program Manager, Bureau of Transportation Statistics, Research & Innovative Technology Administration, Department of Transportation, Room #E32-342, 1200 New Jersey Avenue, SE., Washington, DC 20590.

NOTIFICATION PROCEDURE:

Individuals seeking to determine whether their information is contained in this system should address written inquiries to IFDS Program Manager, Bureau of Transportation Statistics, Research & Innovative Technology Administration, Department of Transportation, Room #E32-342, 1200 New Jersey Avenue, SE., Washington, DC 20590. Requests should include name, address and telephone number and describe the records you seek.

RECORD ACCESS PROCEDURES:

Same as “Notification procedure.”

CONTESTING RECORD PROCEDURES:

Same as “System Manager.”

RECORD SOURCE CATEGORIES:

Information on individuals is provided to IFDS by the Department of Homeland Security through Customs and Border Protection's Automated Commercial Environment (ACE) and the ITDS. International traders and carriers or their agents provide this information to ACE in order to facilitate Federal pre-clearance of international cargoes, including their compliance with all Federal regulations governing import into, export from or transiting of the United States and its territories.

EXEMPTIONS CLAIMED FOR THE SYSTEM:

None.

Habib Azarsina,
Departmental Privacy Officer, DOT/OST/S-83.

[FR Doc. E8-7880 Filed 4-11-08; 8:45 am]

BILLING CODE 4910-62-P